DEPARTMENT OF COMMERCE

International Trade Administration

[A-588-804, A-412-801]

Ball Bearings and Parts Thereof From Japan and the United Kingdom: Notice of Court Decision Not in Harmony With the Final Results of Antidumping Duty Administrative Reviews; 2009-2010

AGENCY: Enforcement and Compliance, International Trade Administration, Department of Commerce.

SUMMARY: On May 10, 2016, the United States Court of International Trade (the Court) sustained the Final Remand Redetermination pertaining to the administrative reviews of the antidumping duty orders on ball bearings and parts thereof from Japan and the United Kingdom covering the period May 1, 2009, through April 30, 2010.¹ Consistent with the decision of the United States Court of Appeals for the Federal Circuit (CAFC) in Timken Co. v. United States, 893 F.2d 337 (Fed. Cir. 1990) (Timken), as clarified by Diamond Sawblades Mfrs. Coalition v. United States, 626 F.3d 1374 (Fed. Cir. 2010) (Diamond Sawblades), the Department of Commerce (the Department) is notifying the public that the Court's final judgment in this case is not in harmony with the Final Results, and that the Department is amending the Final Results with respect to all respondents that were subject to these administrative reviews.²

¹ See Final Results of Remand Redetermination (Final Remand Redetermination) Pursuant to The Timken Company v. United States, 79 F. Supp. 3d 1350 (CIT 2015) (Remand Order), aff'd The Timken Company v. United States, Consol. Court No. 14-00155, slip op. 16-47, 2016 Ct. Intl. Trade LEXIS 45 (Ct. Int'l Trade May 10, 2016) (Remand Affirmation).

² See Ball Bearings and Parts Thereof from Japan and the United Kingdom: Final Results of Antidumping Duty Administrative Reviews and Rescission of Review in Part; 2009-2010, 79 FR 35312 (June 20, 2014) (Final Results).

DATES: Effective May 20, 2016.

FOR FURTHER INFORMATION CONTACT: Thomas Schauer or Minoo Hatten, AD/CVD Operations, Office I, Enforcement and Compliance, International Trade Administration, U.S. Department of Commerce, 1401 Constitution Avenue NW., Washington, DC 20230; telephone (202) 482-0410 or (202) 482-1690, respectively.

SUPPLEMENTARY INFORMATION:

Background

On July 8, 2015, the Court remanded the Final Results for the Department to apply a differential pricing analysis.³ On remand, the Department applied a differential pricing analysis, under protest, and as a result, the weighted-average dumping margin for each respondent subject to these administrative reviews changed. On May 10, 2016, the Court upheld the Final Remand Redetermination in full.⁴

³ See Remand Order, 79 F. Supp. 3d at 1361.

⁴ See Remand Affirmation at 26.

Timken Notice

In its decision in Timken, as clarified by Diamond Sawblades, the CAFC held that, pursuant to section 516A(e) of the Tariff Act of 1930, as amended (the Act), the Department must publish a notice of a court decision that is not “in harmony” with a Department determination and must suspend liquidation of entries pending a “conclusive” court decision. The Remand Affirmation sustaining the Final Remand Redetermination constitutes a final decision of the Court which is not in harmony with the Final Results. This notice is published in fulfillment of the publication requirements of Timken.

Amended Final Results

Because there is now a final court decision, the Department is amending the Final Results with respect to all respondents as follows:

Company | Rate (percent)
JAPAN
Asahi Seiko Co., Ltd. | 1.33
Audi AG | 4.58
Bosch Corporation | 4.58
Bosch Packaging Technology K.K. | 4.58
Bosch Rexroth Corporation | 4.58
Caterpillar Japan Ltd. | 4.58
Caterpillar Overseas S.A.R.L. | 4.58
Caterpillar Group Services S.A. | 4.58
Caterpillar Brazil Ltd. | 4.58
Caterpillar Africa Pty. Ltd. | 4.58
Caterpillar of Australia Pty. Ltd. | 4.58
Caterpillar S.A.R.L. | 4.58
Caterpillar Americas Mexico, S. de R.L. de C.V. | 4.58
Caterpillar Logistics Services China Ltd. | 4.58
Caterpillar Mexico, S.A. de C.V. | 4.58
Hagglunds Ltd. | 4.58
Hino Motors Ltd. | 4.58
JTEKT Corporation (formerly known as Koyo Seiko Co., Ltd.) | 4.58
Kongskilde Limited | 4.58
Mazda Motor Corporation | 4.58
Mori Seiki Co., Ltd. | 0.65
Nachi-Fujikoshi Corporation | 4.58
Nissan Motor Company, Ltd. | 4.58
NSK Ltd. | 2.79
NTN Corporation and NTN Kongo Corporation | 6.37
Perkins Engines Company Limited | 4.58
Volkswagen AG | 4.58
Volkswagen Zubehor GmbH | 4.58
Yamazaki Mazak Trading Corporation | 4.58
UNITED KINGDOM
Alcatel Vacuum Technology | 6.47
Bosch Rexroth Ltd. | 6.47
Caterpillar S.A.R.L. | 6.47
Caterpillar Group Services S.A. | 6.47
Caterpillar of Australia Pty Ltd. | 6.47
Caterpillar Overseas S.A.R.L. | 6.47
Caterpillar Marine Power UK | 6.47
NSK Bearings Europe Ltd. | 6.47
Perkins Engines Company Ltd. | 6.47
SKF (U.K.) Limited and SKF Aeroengine Bearings U.K. | 6.47

In the event the Court's ruling is not appealed, or if it is appealed and upheld by the CAFC, the Department will instruct U.S. Customs and Border Protection (CBP) to assess antidumping duties on entries of the subject merchandise exported by the companies listed above. In accordance with 19 CFR 351.212(b)(1), for Asahi Seiko Co., Ltd., Mori Seiki Co., Ltd., NSK Ltd., NSK Bearings Europe Ltd., and NTN Corporation and NTN Kongo Corporation, we calculated importer-specific assessment rates by dividing the total amount of dumping for the reviewed sales by the total entered vale of those reviewed sales for each importer.

For entries of subject merchandise during the period of reviews produced by Asahi Seiko Co., Ltd., Mori Seiki Co., Ltd., NSK Ltd., NSK Bearings Europe Ltd., and NTN Corporation and NTN Kongo Corporation, for which they did not know their merchandise was destined for the United States, we will instruct CBP to liquidate unreviewed entries at the country-specific all-others rate if there is no rate for the intermediate company(ies) involved in the transaction.

For all other companies listed above, which were not selected for individual examination, we will instruct CBP to assess antidumping duties at a rate equal to the weighted-average dumping margin listed above to all entries of subject merchandise produced and/or exported by such firms.

Cash Deposit Requirements

Because we revoked the antidumping duty orders on ball bearings and parts thereof from Japan and the United Kingdom effective September 15, 2011, no cash deposits for estimated antidumping duties on future entries of subject merchandise will be required.⁵

⁵ See Ball Bearings and Parts Thereof From Japan and the United Kingdom: Final Results of Sunset Reviews and Revocation of Antidumping Duty Orders, 79 FR 16771 (March 26, 2014).

This notice is issued and published in accordance with sections 516(A)(e), 751(a)(1), and 777(i)(1) of the Act.

Dated: May 31, 2016.
Paul Piquado,
Assistant Secretary for Enforcement and Compliance.

[FR Doc. 2016-13280 Filed 6-3-16; 8:45 am]

BILLING CODE 3510-DS-P